DEPARTMENT OF JUSTICE

Notice of Lodging of Proposed Agreement and Order Regarding Modification of Consent Decree Under the Clean Water Act

On September 23, 2015, the Department of Justice lodged a proposed Agreement and Order Regarding Modification of the Consent Decree (“Consent Decree Modification”) with the United States District Court for the Southern District of Texas in the lawsuit entitled United States and Texas v. Harris County Municipal Utility District Number 50, Civil Action No. 4:00-cv-01931.

In a Complaint filed on June 6, 2000, Plaintiff United States alleged violations of the Clean Water Act, 33 U.S.C. 1251 et seq., at Harris County Municipal District Number 50's (“HCMUD50's”) sewage treatment plant. A Consent Decree was entered on September 22. 2000, and pursuant to that Consent Decree, HCMUD50 made improvements that resulted in compliance in most areas, though additional improvements are needed to the sewage collection system. The proposed Modified Consent Decree would amend the original Consent Decree to require HCMUD50 to implement necessary modifications and improvements to its collection system by December 31, 2016.

The publication of this notice opens a period for public comment on the Consent Decree Modification. Comments should be addressed to the Assistant Attorney General, Environment and Natural Resources Division, and should refer to United States and Texas v. Harris County Municipal Utility District Number 50, D.J. Ref. No. 90-5-1-1-4505. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Consent Decree Modification may be examined and downloaded at this Justice Department Web site: http://www.justice.gov/enrd/consent-decrees. We will provide a paper copy of the Consent Decree Modification upon written request and payment of reproduction costs. Please mail your request and payment to: Consent Decree Library, U.S. DOJ—ENRD, P.O. Box 7611, Washington, DC 20044-7611.

Please enclose a check or money order for $4.50 (25 cents per page reproduction cost) payable to the United States Treasury.

Thomas Carroll,
Assistant Section Chief, Environmental Enforcement Section, Environment and Natural Resources Division.

[FR Doc. 2015-24618 Filed 9-28-15; 8:45 am]

BILLING CODE 4410-15-P